DEPARTMENT OF HEALTH AND HUMAN SERVICES

Centers for Disease Control and Prevention

[60Day-07-07AF]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan F. Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of the Safe Dates Project—New—National Center for Injury Prevention and Control (NCIPC), Centers for Disease Control and Prevention (CDC).

Background and Brief Description

The specific aims of this study are to describe the implementation and drivers of implementation of the Safe Dates program (implementation evaluation); to evaluate its impact on desired outcomes, including prevention of and reduction in dating violence victimization and perpetration (including psychological abuse, stalking, physical violence, and sexual violence) among ninth-grade students (experimental effectiveness evaluation); and to evaluate its cost-effectiveness, including cost-utility (cost evaluation). The evaluation will require participation from staff and students at 54 schools (18 treatment schools receiving the Safe Dates program with teacher training and observation, 18 treatment schools receiving the Safe Dates program without teacher training and observation, and 18 control schools not receiving the Safe Dates program).

Implementation evaluation data will be collected primarily through Web questionnaires completed by principals, school prevention coordinators, and teachers delivering the program; effectiveness evaluation data will be collected via classroom scannable forms with ninth-graders who attend treatment or control schools; and cost evaluation data will be collected via a Web survey of teachers delivering the program who receive training and observation. High schools that agree to participation will be matched into sets of three.

Characteristics that will be considered in the matching process include demographics and urban/rural county type. Large schools will be given the option to invite a census of ninth grade students to participate in the study or to invite a subset of ninth grade students (in certain classes) to participate. Schools within a set of three will be matched on census versus subset selection of ninth graders to ensure that all schools in a set use the same selection process. Eighteen matched sets of three schools will be selected. One school from each matched set will be assigned randomly either to receive the Safe Dates program with teacher training and observation, to receive the Safe Dates program without teacher training and observation, or to serve as a control group.

Approximately 10,158 students at the 54 schools will complete a baseline effectiveness evaluation scannable survey. During the classroom-administered survey, information will be collected from students about how they feel about dating, communicating with a dating partner, and attitudes and behaviors related to violence, including violence between preteen and teen dating couples. Informed written consent from parents for their child's participation and informed written assent from ninth graders for their own participation will be obtained. During Web surveys, school staff will be asked about implementation and costs of the Safe Dates program.

Effectiveness evaluation baseline data collection will span the period from October to November 2007, and follow-up data collection will occur during January and February 2009. Assuming an 80 percent response rate at follow-up, it is anticipated that a total of 8,126 students will complete follow-up effectiveness evaluation surveys.

To evaluate the implementation and implementation drivers of the program, principals and prevention coordinators at all 54 schools will be asked to complete a series of Web surveys from October 2007 to February 2009. Assuming a 91 percent response rate for all school staff surveys, it is anticipated that 48 principals and 48 prevention coordinators will complete baseline implementation questionnaires, 32 principals and 32 prevention coordinators at treatment schools will complete mid-implementation questionnaires, 48 principals will complete end-of-school year implementation questionnaires, and 48 prevention coordinators will complete follow-up implementation questionnaires. In addition, 97 teachers at treatment schools will complete Web baseline implementation questionnaires, 48 teachers at treatment schools receiving training and observation will complete cost questionnaires, and 97 teachers at treatment schools will complete two mid-implementation questionnaires each. Students at treatment schools (n=5,417) will also complete two mid-implementation questionnaires each.

It is anticipated that study results will be used to determine the Safe Dates program's effectiveness, economic and time costs, cost-effectiveness, cost-utility, feasibility of implementation, dissemination facilitators, and needed improvements for implementation with fidelity.

There are no costs to respondents except their time to participate in the interview.

Estimated Annualized Burden Hours
Instrument name | Number of respondents | Responses/respondent | Hours/response | Total response burden (Hours)
Student effectiveness baseline survey | 10,158 | 1 | 50/60 | 8,465
Principal baseline implementation survey | 48 | 1 | 10/60 | 8
Prevention coordinator baseline implementation survey | 48 | 1 | 10/60 | 8
Teacher baseline implementation survey | 97 | 1 | 10/60 | 16
Principal mid-implementation survey | 32 | 1 | 10/60 | 5
Prevention coordinator mid-implementation survey | 32 | 1 | 15/60 | 8
Teacher cost survey | 48 | 11 | 20/60 | 176
First teacher mid-implementation survey | 97 | 2 | 15/60 | 48
Second teacher mid-implementation survey | 97 | 2 | 15/60 | 48
First student mid-implementation survey | 5,417 | 2 | 25/60 | 4,514
Second student mid-implementation survey | 5,417 | 2 | 25/60 | 4,514
Principal end-of-school-year implementation survey | 48 | 1 | 10/60 | 8
Student effectiveness follow-up survey | 8,126 | 1 | 50/60 | 6,772
Prevention coordinator follow-up implementation survey | 48 | 1 | 10/60 | 8
Total | 29,713 |  |  | 24,598

Dated: January 11, 2007.
Joan F. Karr,
Acting Reports Clearance Officer, Centers for Disease Control and Prevention.

[FR Doc. E7-773 Filed 1-19-07; 8:45 am]

BILLING CODE 4163-18-P